DEPARTMENT OF DEFENSE

Department of the Air Force

Announcement of IS-GPS-800 Interface Control Working Group (ICWG) Meeting

AGENCY: Department of the Air Force, DoD.

ACTION: Meeting notice.

SUMMARY: This notice informs the public that the Global Positioning Systems Wing (GPSW) (formerly the GPS Joint Program Office) will be hosting a technical working group meeting to discuss the new L1C signal as specified in Draft IS-GPS-800, Navstar GPS Space Segment/Navigation User L1C Interfaces. The discussion will include addressing those comments submitted from the ICWG review of the Draft IS-GPS-800.

For those who would like to attend and participate in this ICWG meeting, you are requested to register to attend the meeting by 22 September 2006. Please send the registration to IG2@arinc.com and provide your name, organization, telephone number, address, and country of citizenship. For those who would like to present material related to the L1C signal or IS-GPS-800 at the meeting, please submit your agenda item and required length of presentation time to IG2@arinc.com by 22 September 2006. The actual presentation material must also submit by 22 September 2006. More information, including a preliminary agenda, will be posted on the GPSW Public ICWG Web site: http://gps.losangeles.af.mil/engineering/icwg/.

DATES: Tuesday, 26 September 2006: 8:30 a.m.-5 p.m. at Fort Worth Convention Center, Room 203B, Fort Worth, Texas 76102 U.S.A.

FOR FURTHER INFORMATION CONTACT: Captain Sean Lenahan at Lawrence.Lenahan@losangeles.af.mil or at 1-310-653-3172.

Bao-Anh Trinh,
Air Force Federal Register Liaison Officer.

[FR Doc. 06-7880 Filed 9-20-06; 8:45 am]

BILLING CODE 5001-06-P